DEPARTMENT OF AGRICULTURE

Commodity Credit Corporation

Notice of Request for an Approval of a New Information Collection

AGENCY: Commodity Credit Corporation, USDA.

ACTION: Notice and request for comments.

SUMMARY: The Commodity Credit Corporation (CCC) is seeking approval from the Office of Management and Budget (OMB) to obtain information regarding transportation brokerage services needed to meet domestic and export food assistance program needs.

This information collection will allow CCC to determine the availability of brokers to meet CCC's transportation needs. This agreement supplements the Standard Rules Tender (SRT) Governing Motor Carrier Transportation, and/or Standard Operating Agreement (SOA) Governing Intermodal Transportation which are currently approved.

DATES: Comments on this notice must be received on or before November 4, 2002 to be assured consideration.

FOR FURTHER INFORMATION CONTACT: Greg Borchert, Chief, Planning and Analysis Division, Kansas City Commodity Office, 6501 Beacon Drive, Kansas City, Missouri 64133-4676, telephone (816) 926-6509, fax (816) 926-1648; e-mail gmborchert@kcc.fsa.gov.

SUPPLEMENTARY INFORMATION: Title: Brokerage Agreement for the Transportation of USDA Commodities.

OMB Control Number: 0560-New.

Type of Request: Regular submission for a new collection.

Abstract: CCC, through the Kansas City Commodity Office (KCCO), solicits bids from brokers for the purpose of providing transportation brokerage services of agricultural commodities. Only approved Intermodal Marketing Companies (IMC) will be authorized to provide rail trailer-on-flatcar/container-on-flatcar (TOFC/COFC) service, that CCC hires, to provide program transportation needs. Only approved Motor Carriers will be authorized to provide over the road trucking service, that CCC hires, to meet domestic and export program needs. Intermodal Marketing Companies and Motor Carriers that choose to broker loads with the KCCO/Export Operations Division (EOD) are required to complete and submit the Brokerage Agreement for the Transportation of USDA Commodities form. This form is filled out one time only. EOD is collecting information to determine the brokers that are available to meet CCC requirements for hauling agricultural products for CCC.

Estimate of Burden: Public reporting burden for collecting information under this notice is estimated to average 1 hour per response, including the time for reviewing instructions, searching existing data sources, gathering and maintaining the data needed, and completing and reviewing the collection of information.

Respondents: Brokers.

Respondents: 113.

Estimated Number of Annual Responses per Respondent: 1.

Estimated Total Annual Burden on Respondents: 113 hours.

Proposed topics for comment include: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology. Comments regarding this information collection requirement may be directed to the Office of Information and Regulatory Affairs of OMB, Attention: Desk Officer for USDA, Washington, DC 20503, and to Greg Borchert, Chief, Planning and Analysis Division, Kansas City Commodity Office, 6501 Beacon Drive, Kansas City, Missouri 64133-4676, telephone (816) 926-6509, fax (816) 926-1648. All comments will become a matter of public record.

Signed at Washington, DC, on August 23, 2002.
James R. Little,
Executive Vice President, Commodity Credit Corporation.

[FR Doc. 02-22520 Filed 9-3-02; 8:45 am]

BILLING CODE 3410-05-P